ENVIROMENTAL PROTECTION AGENCY

[FRL-9915-33-Region-3]

Clean Air Act Operating Permit Program; Petition to Object to Title V Permits for the Homer City and Bruce Mansfield Electric Generating Facilities; Pennsylvania

AGENCY: Environmental Protection Agency.

ACTION: Notice of final action.

SUMMARY: Pursuant to the Clean Air Act (CAA), the Environmental Protection Agency (EPA) Administrator signed an Order, dated July 30, 2014, partially granting and partially denying petitions to object to two state operating permits issued by the Pennsylvania Department of Environmental Protection (PaDEP). The Order responds to a September 12, 2012 petition, and a May 15, 2013 supplement to that petition, relating to EME Homer City Generation L.P.'s Homer City plant in Indiana County, as well as an October 22, 2012 petition, which relates to First Energy Generation Corporation's Bruce Mansfield plant in Beaver County. The petitions were submitted by the Sierra Club. In the Bruce Mansfield petition, Sierra Club was joined by the Little Blue Regional Action Group (LBRAG), Environmental Integrity Project (EIP), Group Against Smog and Pollution (GASP), and Clean Air Council (CAC). This Order constitutes final action on those petitions requesting that the Administrator object to the issuance of the proposed CAA title V permit.

ADDRESSES: Copies of the final Order, the petition, and all pertinent information relating thereto are on file at the following location: EPA, Region III, Air Protection Division (APD), 1650 Arch St., Philadelphia, Pennsylvania 19103. EPA requests that if at all possible, you contact the individual listed in the FOR FURTHER INFORMATION CONTACT section to view copies of the final Order, petition, and other supporting information. You may view the hard copies Monday through Friday, from 9 a.m. to 3 p.m., excluding Federal holidays. If you wish to examine these documents, you should make an appointment at least 24 hours before the visiting day. The final Order is also available electronically at the following Web site: http://www.epa.gov/region07/air/title5/petitiondb/petitiondb.htm.

FOR FURTHER INFORMATION CONTACT: David Talley, Air Protection Division, EPA Region III, telephone (215) 814-2117, or by email at talley.david@epa.gov.

SUPPLEMENTARY INFORMATION: The CAA affords EPA a 45-day period to review and object to, as appropriate, operating permits proposed by state permitting authorities. Section 505(b)(2) of the CAA authorizes any person to petition the EPA Administrator within 60 days after the expiration of this review period to object to a state operating permit if EPA has not done so. Petitions must be based only on objections raised with reasonable specificity during the public comment period, unless the petitioner demonstrates that it was impracticable to raise these issues during the comment period or that the grounds for objection or other issue arose after the comment period.

In the Homer City petition and Homer City supplemental petition (numbered III-2012-06 and III-2013-03 respectively), the petitioner sought the EPA objection on the following issues: (1) The proposed permit fails to include the general prohibition against air pollution found in Pennsylvania's State Implementation Plan (PA SIP); (2) the proposed permit fails to include emission limits and averaging periods sufficient to prevent the Homer City plant from causing impermissible air pollution in the form of harmful concentrations of sulfur dioxide (SO2) in violation of the state adopted, federally-enforceable acid rain provisions and the PA SIP; (3) the proposed permit fails to require sufficient emissions limits and monitoring requirements to ensure compliance with particulate matter (PM) standards; (4) the proposed permit impermissibly claims to apply a permit shield to unidentified future projects; and (5) various miscellaneous claims not separately identified in the petition. The Homer City supplemental petition identifies the following bases on which the EPA should object: (1) Pennsylvania's general prohibition on harmful air pollution is an applicable requirement with which the permit must assure compliance; and (2) Pennsylvania's acid rain regulations are federally-enforceable applicable requirements with which the permit must assure compliance. The PaDEP issued the final Homer City operating permit (No. 32-00055) on November 16, 2012.

In the Mansfield petition (numbered III-2012-07), the petitioners sought the EPA objection on the following issues: (1) The proposed permit fails to include numerical emission limits and monitoring sufficient to prevent the facility from causing impermissible air pollution in the form of harmful concentrations of SO2 as well as violations of an applicable acid rain provision; (2) the proposed permit fails to require adequate monitoring to assure compliance with its PM emission limits; (3) the proposed permit fails to require adequate monitoring to assure compliance with its opacity limits; and (4) various miscellaneous claims not separately identified in the petition. The PaDEP issued the final operating permit (No. 04-00235) on February 8, 2013. The Order explains the reasons behind EPA's decision to partially grant and partially deny the petition for objection. Pursuant to section 505(b)(2) of the CAA, the petitioner may seek judicial review of those portions of the Homer City and Bruce Mansfield petitions which EPA denied in the United States Court of Appeals for the appropriate circuit. Any petition for review shall be filed within 60 days of this notice in accordance with the requirements of section 307 of the CAA.

Dated: August 6, 2014.
William C. Early,
Acting Regional Administrator, Region III.

[FR Doc. 2014-19559 Filed 8-15-14; 8:45 am]

BILLING CODE 6560-50-P